ENVIRONMENTAL PROTECTION AGENCY

[FRL-6716-5]

Proposed Settlement Under Sections 122(g)(1)(B) and 122(g)(4) of the Comprehensive Environmental Response, Compensation, and Liability Act; Land Trust No. 40966, Chicago Title and Trust Company, as Trustee; Northern Trust Company, as Trustee for the John F. Stack Residuary Trust; Mary Stack; Dorothy Stack Spaulding; John Stack, Jr.; Robert Stack and Eugene Stack

AGENCY: Environmental Protection Agency (EPA).

ACTION: Request for public comment.

SUMMARY: In accordance with section 122(i)(1) of the Comprehensive Environmental Response, Compensation and Liability Act of 1984, as amended (CERCLA), notice is hereby given of a proposed administrative settlement concerning the Vacant Lot hazardous waste site at the northeast corner of Commonwealth Avenue and Martin Luther King Drive in North Chicago, Illinois (Site).

The agreement was proposed by EPA Region 5 on January 12, 1998. Subject to review by the public pursuant to this Notice, the agreement has been approved by the United States Department of Justice. Land Trust No. 40966, Chicago Title and Trust Company, as trustee; Northern Trust Company, as trustee for the John F. Stack Residuary Trust; Mary Stack; Dorothy Stack Spaulding; John Stack, Jr.; Robert Stack and Eugene Stack have executed binding certifications of their consent to participate in the settlement.

EPA is entering into this agreement under the authority of section 122(g) and 107 of CERCLA. Section 122(g) authorizes settlements with de minimis parties to allow them to resolve their liabilities at Superfund sites without incurring substantial transaction costs. Under the proposed settlement, Site property will be transferred to BREMS Realty, L.L.C. (which has entered into a proposed prospective purchaser agreement with EPA). The sale proceeds of $35,000 would be paid directly to EPA and applied to its outstanding response costs of approximately 3.1 million at the Site. These settling parties would agree not to sue the United States for any claims arising out of the response actions taken at the Vacant Lot site. In exchange for that covenant and in consideration of the payment to be received, EPA would provide a covenant not to sue the settling parties and the contribution protection provided by Sections 113(f)(2) and 122(g)(5) of CERCLA, 42 U.S.C. 9613(f)(2) and 9622(g)(5). EPA has determined that these parties are owners or have potential owernship interests at the Site and that they did not conduct or permit the generation, transportation, storage, treatment, or disposal of any hazardous substances at the site, and did not contribute to the release or threat of release of a hazardous substance at the site through any act or omission.

The Environmental Protection Agency will receive written comments relating to this agreement for 30 days from the date of publication of this notice. EPA will consider all comments received and may decide not to enter this proposed agreement if comments disclose facts or considerations which indicate that the proposed agreement is inappropriate, improper or inadequate.

DATES: Comments must be provided on or before July 19, 2000.

ADDRESSES: Comments should be addressed to the Docket Clerk, U.S. Environmental Protection Agency, Region 5, 77 West Jackson Boulevard, Chicago, Illinois 60604-3590, and should refer to: In Re Vacant Lot Site, North Chicago, Illinois, U.S. EPA Docket No. V-W-00C-94.

FOR FURTHER INFORMATION CONTACT: Thomas J. Krueger, U.S. Environmental Protection Agency, Office of Regional Counsel, C-14J, 77 West Jackson Boulevard, Chicago, Illinois, 60604-3590, (312) 886-0562.

A copy of the proposed administrative settlement agreement may be obtained in person or by mail from the EPA's Region 5 Office of Regional Counsel, 77 West Jackson Boulevard, Chicago Illinois 60604-3590. Additional background information relating to the settlement is available for review at the EPA's Region 5 Office of Regional Counsel.

Authority: The Comprehensive Environmental Response, Compensation, and Liability Act, as amended, 42 U.S.C. 9601-9675.

Bruce Sypniewski,
Acting Director, Superfund Division.

[FR Doc. 00-15396 Filed 6-16-00; 8:45 am]

BILLING CODE 6560-50-M